DEPARTMENT OF THE INTERIOR

Bureau of Land Management

[AZ-040-00-1040-JH]

Gila Box Riparian National Conservation Area Advisory Committee Meeting

AGENCY: Bureau of Land Management, Interior.

ACTION: Gila Box Riparian National Conservation Area Advisory Committee Meeting.

SUMMARY: The purpose of this notice is to announce the next meeting of the Gila Box Riparian National Conservation Area Advisory Committee Meeting. The purpose of the Advisory Committee is to provide informed advice to the Safford Field Office Manager on management of public lands in the Gila Box Riparian National Conservation Area. The committee meets as needed, generally between two and four times a year.

The meeting will begin at the Bureau of Land Management, Safford Field Office on March 2, 2001, commencing at 9:00 a.m. and ending at 4:00 p.m. The meeting's agenda will consist of a morning in house discussion on the draft Gila Box brochure, Jeff Menges grazing protest and final decision, a status report on the Lee Trail headquarters, FY2001 Annual Work Plan and table of organization for the Gila Box RNCA. In the afternoon the committee will tour the west end of the RNCA to discuss OHV, recreation, and grazing issues. A public comment period will begin at 9:00 a.m. and may continue for the duration of the meeting for the public to comment on the management of the Gila Box NCA.

DATES: Meeting will be held on March 2, 2001, starting at 9:00 a.m.

FOR FURTHER INFORMATION CONTACT: Jon Collins, Gila Box NCA Project Coordinator, Safford Field Office, 711 14th Ave., Safford, AZ 85546, Telephone (520) 348-4400.

Dated: January 23, 2001.
Frank Rowley,
Acting Safford Field Manager.

[FR Doc. 01-3078 Filed 2-5-01; 8:45 am]

BILLING CODE 4310-32-P